DEPARTMENT OF TRANSPORTATION

Federal Aviation Administration

14 CFR Part 65

[Docket No.: FAA-2010-1060]

Policy Clarifying Definition of “Actively Engaged” for Purposes of Inspector Authorization

AGENCY: Federal Aviation Administration (FAA), DOT.

ACTION: Notice of proposed policy; extension of comment period.

SUMMARY: This action extends the comment period for a Notice of Proposed Policy that was published on November 5, 2010. The proposed policy would clarify the term “actively engaged” for the purposes of application for and renewal of an inspection authorization. The proposed policy would amend the Flight Standards Management System Order 8900.1.

DATES: The comment period for the Notice of Proposed Policy published on November 5, 2010 (75 FR 68249) was scheduled to close on December 6, 2010, and is extended to January 17, 2011.

ADDRESSES: You may send comments identified by docket number FAA-2010-1060 using any of the following methods:

• Federal eRulemaking Portal: Go to http://www.regulations.gov and follow the online instructions for sending your comments electronically.

• Mail: Send Comments to Docket Operations, M-30; U.S. Department of Transportation, 1200 New Jersey Avenue, SE., West Building Ground Floor, Room W12-140, West Building Ground Floor, Washington, DC 20590-0001.

• Hand Delivery: Take comments to Docket Operations in Room W12-140 of the West Building Ground Floor at 1200 New Jersey Avenue, SE., Washington, DC, between 9 a.m. and 5 p.m., Monday through Friday, except Federal holidays.

• Fax: (202) 493-2251.

FOR FURTHER INFORMATION CONTACT: Ed Hall, Aircraft Maintenance General Aviation Branch, AFS-350, Federal Aviation Administration, 800 Independence Avenue, SW., Washington, DC 20591; telephone: (804) 222-7494 ext. 240; e-mail: ed.hall@faa.gov.

SUPPLEMENTARY INFORMATION:

Comments Invited

The FAA invites interested persons to submit written comments, data, or views concerning this proposal. The most helpful comments reference a specific portion of the proposal, explain the reason for any recommended change, and include supporting data. To ensure the docket does not contain duplicate comments, please send only one copy of written comments, or if you are filing comments electronically, please submit your comments only one time.

The FAA will file in the docket all comments received, as well as a report summarizing each substantive public contact with FAA personnel concerning this proposal. Before acting on this proposal, the FAA will consider all comments received on or before the closing date for comments and any late-filed comments if it is possible to do so without incurring expense or delay. The FAA may change this proposal in light of comments received.

Availability of This Proposed Policy

You can get an electronic copy using the Internet by—

(1) Searching the Federal eRulemaking Portal (http://www.regulations.gov);

(2) Visiting the FAA's Regulations and Policies Web page at http://www.faa.gov/regulations_policies/; or

(3) Accessing the Government Printing Office's Web page at http://www.gpoaccess.gov/fr/index.html.

You can also get a copy by sending a request to the Federal Aviation Administration, Office of Rulemaking, ARM-1, 800 Independence Avenue, SW., Washington, DC 20591, or by calling (202) 267-9680. Make sure to identify the docket number or notice number of this proposal.

Background

On November 5, 2010 the FAA published a Notice of Proposed Policy, entitled Policy Clarifying Definition of “Actively Engaged” for the Purpose of Inspector Authorization. (75 FR 68249, Docket No. FAA-2010-1060.) Comments to that document were to be received on or before December 6, 2010.

By letter dated November 16, 2010, the Experimental Aircraft Association (EAA) requested an extension of the comment period to January 17, 2011. By letter dated November 22, 2010, the Aircraft Owners and Pilots Association (AOPA) requested a 60-day extension of the comment period. Both petitioners stated the additional time is necessary to fully investigate the proposal's potential negative impact on the industry and because of the impact of upcoming holidays on their opportunity to provide meaningful comments.

Extension of Comment Period

In accordance with § 11.47(c) of Title 14, Code of Federal Regulations, the FAA has reviewed the petitions for extension by EAA and AOPA. The FAA agrees with the petitioners that an opportunity for meaningful comment is in the public interest. However, the FAA does not support extending the comment period by 60 days. This proposed policy does not constitute a significant change from current FAA policy regarding inspector authorization but is merely a clarification of that policy as stated in the Notice of Proposed Policy.

The FAA supports an extension to January 17, 2011 to allow additional time to investigate and develop meaningful comments in light of the holiday schedule. The FAA has determined that an extension of the comment period is consistent with the public interest, and that good cause exists for taking this action.

Accordingly, the comment period for this Notice of Proposed Policy is extended until January 17, 2011. Absent unusual circumstances, the FAA does not anticipate any further extension of the comment period.

Issued in Washington, DC, on December 2, 2010.
Carol Giles,
Manager, Aircraft Maintenance Division of Flight Standards Service.

[FR Doc. 2010-30604 Filed 12-3-10; 8:45 am]

BILLING CODE 4910-13-P